DEPARTMENT OF HEALTH AND HUMAN SERVICES

Administration for Community Living

Administration on Disabilities, The President's Committee for People With Intellectual Disabilities

AGENCY: Administration for Community Living, HHS.

ACTION: Notice.

SUMMARY: The President's Committee for People with Intellectual Disabilities (PCPID) will hold a virtual meeting for members to discuss issues related to Home and Community Based Services (HCBS) that will be a part of the Committee's Report to the President. All the PCPID meetings, in any format, are open to the public. This virtual meeting will be conducted in a discussion and presentation format with testimony from people with intellectual disabilities and other stakeholders to provide more information about their experiences with HCBS.

DATES: May 1, 2023 from 12 p.m. to 5 p.m. (EST).

Agenda: The Committee will discuss emerging issues identified by four PCPID workgroups related to HCBS: Direct support professionals, competitive integrated employment, community living, and Federal support programs. This disssion will help develop a general framework for the preparation of the PCPID Report to the President.

Additional Information: For further information, please contact Mr. David Jones, Director, Office of Intellectual Developmental Disabilities, 330 C Street SW, Switzer Building, Room 1126, Washington, DC 20201. Telephone: 202-795-7367. Fax: 202-795-7334. Email: David.Jones@acl.hhs.gov.

SUPPLEMENTARY INFORMATION: Stakeholder input is very important to the PCPID. Comments and suggestions, especially from people with intellectual disabilities, are welcomed. If there are comments related to HCBS or other areas that you would like to inform the PCPID, please share them through the following ACL.gov link: https://acl.gov/form/pcpid?j=1555178&sfmc_sub=191090082&l=6707_HTML&u=34777761&mid=515008575&jb=0.

Comments received by April 21st will be shared with the PCPID at the May 1st meeting.

Webinar/Conference Call: The virtual meeting is scheduled for Monday, May 1, 2023 from 12:00 p.m. to 5:00 p.m. (EST) and may end early if discussions are finished. The meeting is open to the public and will be held through a zoom meeting platform. In order for members of the public to observe the proceedings, you must register in advance at the following link: https://www.zoomgov.com/webinar/register/WN_jjKOBx7ARW-EiJdzKgamWg.

Background Information on the Committee: The PCPID acts in an advisory capacity to the President and the Secretary of Health and Human Services on a broad range of topics relating to programs, services, and supports for individuals with intellectual disabilities. The PCPID Charter stipulates that the Committee shall: (1) provide such advice concerning intellectual disabilities as the President or the Secretary of Health and Human Services may request; and (2) provide advice to the President and the Secretary of Health and Human Services to promote full participation of people with intellectual disabilities in their communities, such as: (A) expanding educational opportunities; (B) promoting housing opportunities; (C) expanding opportunities for competitive integrated employment; (D) improving accessible transportation options; (E) protecting rights and preventing abuse; and (F) increasing access to assistive and universally designed technologies; and (3) provide advice to the President and the Secretary of Health and Human Services to help advance racial equity and support for people with intellectual disabilities within underserved communities.

Dated: March 30, 2023.
Jill Jacobs,
Commissioner, Administration on Disabilities.

[FR Doc. 2023-06938 Filed 4-3-23; 8:45 am]

BILLING CODE 4154-01-P